DEPARTMENT OF COMMERCE

National Oceanic and Atmospheric Administration

Availability of Seats for the Gulf of the Farallones National Marine Sanctuary Advisory Council

AGENCY: Office of National Marine Sanctuaries (ONMS), National Ocean Service (NOS), National Oceanic and Atmospheric Administration, Department of Commerce (DOC).

ACTION: Notice and request for applications.

SUMMARY: The ONMS is seeking applicants for the following vacant seats on the Gulf of the Farallones National Marine Sanctuary Advisory Council (council): Conservation Primary (1 seat) and Alternate (2 seats); Education Primary and Alternate; Community-at-Large San Francisco/San Mateo Primary and Alternate; Community-at-Large Marin/Sonoma Primary; Research Primary and Alternate; Maritime Activities Commercial Primary and Alternate; ad Maritime Activities Recreation Primary and Alternate. Applicants are chosen based upon their particular expertise and experience in relation to the seat for which they are applying; community and professional affiliations; philosophy regarding the protection and management of marine resources; and possibly the length of residence in the area affected by the sanctuary. Applicants who are chosen as members should expect to serve 2-3 year terms, pursuant to the council's Charter.

DATES: Applications are due by March 1, 2010.

ADDRESSES: Application kits may be obtained from http://www.farallones.noaa.gov/manage/sac.html, or Kelley Higgason, 991 Marine Dr., The Presidio, San Francisco, CA 94129, kelley.higgason@noaa.gov. Completed applications should be mailed to the above address or emailed to kelley.higgason@noaa.gov.

FOR FURTHER INFORMATION CONTACT: Kelley Higgason, 991 Marine Dr., The Presidio, San Francisco, CA 94129, 415-561-6622 ext. 202, kelley.higgason@noaa.gov.

SUPPLEMENTARY INFORMATION: The Sanctuary Advisory Council provides the Sanctuary Superintendent with advice on the management of the Sanctuary. Members provide advice to the Superintendent on issues affecting resource protection, the Sanctuary's primary purpose. The Council, through its members, serves as liaisons to the community regarding Sanctuary issues and acts as a conduit, relaying the community's interests, concerns, and management needs to the Sanctuary. The Sanctuary Advisory Council members represent public interest groups, local industry, commercial and recreational user groups, academia, conservation groups, government agencies, and the general public. Members serve either two-or three-year terms in order to stagger Council membership and allow continuity.

Authority: 16 U.S.C. Sections 1431, et seq.

(Federal Domestic Assistance Catalog Number 11.429 Marine Sanctuary Program)

Daniel J. Basta,
Director, Office of National Marine Sanctuaries, National Ocean Service, National Oceanic and Atmospheric Administration.

[FR Doc. 2010-680 Filed 1-15-10; 8:45 am]

BILLING CODE 3510-NK-M